DEPARTMENT OF THE INTERIOR

Bureau of Land Management

[15X L1109AF LLUT03000 L16100000.P00000 24-1A]

Call for Nominations for Grand Staircase-Escalante National Monument Advisory Committee, Utah

AGENCY: Bureau of Land Management, Interior.

ACTION: Notice.

SUMMARY: The purpose of this notice is to request public nominations for six members to the Grand Staircase-Escalante National Monument Advisory Committee (MAC). The MAC provides advice and recommendations to the Bureau of Land Management (BLM) on science issues and the achievement of Monument Management Plan objectives. The Monument will receive public nominations for 30 days from the date this notice is posted.

DATES: A completed nomination form and accompanying nomination/recommendation letters must be received at the address listed below no later than December 28, 2015.

ADDRESSES: Nominations and completed applications should be sent to the Grand Staircase-Escalante National Monument Headquarters Office, 669 South Highway 89A, Kanab, UT 84741.

FOR FURTHER INFORMATION CONTACT: Larry Crutchfield, Public Affairs Officer, Grand Staircase-Escalante National Monument, 669 South Highway 89A, Kanab, UT 84741; phone (435) 644-1209, or email: lcrutchf@blm.gov. Persons who use a telecommunications device for the deaf (TDD) may call the Federal Information Relay Service (FIRS) at 1-800-877-8339 to leave a message or question with the above individual. The FIRS is available 24 hours a day, seven days a week. Replies will be received during normal business hours.

SUPPLEMENTARY INFORMATION: The Secretary of the Interior established the Monument pursuant to section 309 of the Federal Land Policy and Management Act (FLPMA) of 1976 (43U.S.C. 1739) and in conformity with the Federal Advisory Committee Act (FACA) of 1972 (5 U.S.C. Appendix 2). The 15 appointed members of the MAC perform several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and (4) Could be consulted on issues such as protocols for specific projects.

The Secretary appoints persons to the Committee who are representatives of the various major citizen interests pertaining to land use planning and management of the lands under BLM management in the Monument.

Each MAC member will be a person who, as a result of training and experience, has knowledge or special expertise which qualifies him or her to provide advice from among the categories of interest listed below. As appropriate, certain committee members may be appointed as Special Government Employees. Special Government Employees serve on the Committee without compensation, and are subject to financial disclosure requirements in the Ethics in Government Act and 5 CFR 2634.

Any individual or organization may nominate one or more persons to serve on the MAC. Individuals may also nominate themselves. Nomination forms may be obtained from the Monument Headquarters Office (address listed above). To make a nomination, submit a letter of nomination, a completed nomination form, letters of reference from the represented interests or organizations associated with the interest represented by the candidate, and any other information that speaks to the candidate's qualifications. The six open positions are as follows: One member with expertise in archaeology; one member with expertise in botany; one member with expertise in geology; one member to represent tribal interests in the Monument; an elected official from Garfield County; and an elected official from Kane County.

The specific category the nominee would be representing should be identified in the letter of nomination and in the nomination form. The BLM-Utah State Director and Monument Manager will review the nomination forms and letters of reference. The State Director shall confer with the governor of the State of Utah on potential nominations. The BLM-Utah State Director will then forward recommended nominations to the Secretary of the Interior who has responsibility for making the appointments.

Members will serve without monetary compensation, but will be reimbursed for travel and per diem expenses at current rates for government employees. The committee will meet at least twice a year. Additional meetings may be called by the Designated Federal Officer.

Megan Crandall,
Acting State Director.

[FR Doc. 2015-30027 Filed 11-24-15; 8:45 am]

BILLING CODE 4310-DQ-P